DEPARTMENT OF AGRICULTURE

Forest Service

Bugtown Gulch Mountain Pine Beetle and Fuels Project, Hell Canyon Ranger District, Black Hills National Forest, Custer, SD

AGENCY: Forest Service, USDA.

ACTION: Notice of intent to prepare an Environmental Impact Statement (EIS).

SUMMARY: The Bugtown Gulch Mountain Pine Beetle and Fuels project area is approximately 16,000 acres in size, with 13,500 acres of National Forest lands and 2,500 acres of private land. The project proposes prevention, suppression and salvage strategies to reduce the beetle infestation and minimize adverse effects to resources and includes fuel treatments to lessen the potential for widespread high intensity wildfire. There are approximately 49 structures on private land within the project area and another 35 within 1 mile of the project boundary. Between 1999 and 2004, Mountain Pine Beetle (MPB) mortality in the project areas has increased 14-fold. The beetle population, based on the number of dead trees, continues to increase an average of 2-3 times per year in the project area and is spreading. Some pine stands have already suffered 50-75% mortality. The Acting Black Hills National Forest, Forest Supervisor, Brad Exton, has determined that a mountain pine beetle epidemic is occurring in the project area and that the epidemic could pose significant threats to forest resources in the project area, including wildlife habitat, forest products and watershed health. Currently, approximately 85% of the project area is ponderosa pine stands in a high risk condition for mountain pine beetles susceptibility. This includes approximately 718 acres within the Wabash timber sale which is under contract, but not yet harvested.

This project is an “authorized project” under Title I of the Healthy Forests Restoration Act (HERA). We will be utilizing expedited procedures authorized by this act to complete project planning and decisionmaking.

DATES: Comments concerning the scope of the analysis will be most useful if received within 30 days following publication of this notice. Comments submitted by individuals, groups or other agencies in response to previous scoping efforts for this project have been incorporated into the analysis and there is no need to resubmit comments in response to this NOI. The draft environmental impact statement is expected May 2005 and the final environmental impact statement is expected July 2005.

ADDRESSES: Send written comments to Michael D. Lloyd, District Ranger, Black Hills National Forest, Hell Canyon Ranger District, 330 Mount Rushmore Road, Custer, South Dakota 57730. Telephone number: (605) 673-4853. Fax number: (605) 673-5461. Electronic comments must be readable in Word, Rich Text or pdf formats and must contain “Bugtown Gulch” in the subject line. Electronic comments may be e-mailed to: comments-rocky-mountain-black-hills-hell-canyon@fs.fed.us.

FOR FURTHER INFORMATION CONTACT: Kelly Honors, Project Leader, at (315) 668-3307 or Patricia Hudson, District NEPA Coordinator, at (605) 673-4853, Hell Canyon Ranger District, Black Hills National Forest, 330 Mount Rushmore Road, Custer, SD 57730.

SUPPLEMENTARY INFORMATION: The actions proposed are in direct response to management direction provided by the Black Hills National Forest Land and Resource Management Plan, as amended (Forest Plan). It is anticipated that a non-significant Forest Plan Amendment related to big game HABCAP values may be part of the decision. The Project area is approximately 5 miles west of the city of Custer, SD.

Purpose and Need for Action

The Purpose and Need for Action in the Bugtown Gulch project area is to reduce the potential for an existing mountain pine beetle epidemic to cause widespread mortality on National Forest and private lands and to reduce the risk of large-scale high intensity wildfire within the project area. This project will address Goals 2 and 3 of the Forest Plan, to provide for biologically diverse ecosystems and provide for sustained commodity uses, consistent with Forest Plan Standards and Guidelines.

Proposed Action

The proposed action includes management strategies designed for prevention, suppression and salvage of the mountain pine beetle epidemic. Prevention methods include commercial thinning of ponderosa pine trees, 7″ dbh and greater, to a basal area of 40 square feet per acre to reduce stand susceptibility to beetle attack. Variable density commercial thinning is proposed in stands designated for Goshawk post-fledgling area (PFA) habitat. These prevention treatments would occur on approximately 9,500 acres. Sanitation harvesting is proposed as a suppression method to remove ponderosa pine trees, 7″ dbh or greater, which have live beetle brood in them. This action is aimed at removing as many beetles as possible from the project area, in an attempt to lessen the size and extent of the epidemic. This treatment would occur on approximately 11,700 acres, which includes the 9,500 acres of thinning discussed above. Sanitation treatments may occur over several years. Salvage harvesting will remove dead trees which no longer have beetle brood in them, but retain some commercial value. The removal of dead and dying trees, and thinning stand densities, will also decrease the potential for large scale, high density wildlife. Other actions include understory fuel treatments on approximately 5,600 acres, designed to reduce the future risk of large high intensity wildfire in the area, particularly around private land. Fuels treatments could include thinning of small diameter trees as well as reduction of ground fuels by lopping, chipping, crushing, or piling and burning the piles. All treatments will utilize existing roads.

Responsible Official

Michael D. Lloyd, Hell Canyon District Ranger, Black Hills National Forest, 330 Mount Rushmore Road, Custer, SD 57730.

Nature of Decision To Be Made

The decision to be made is whether or not to implement the proposed action or alternatives at this time and whether to amend the Forest Plan to allow for implementation of this project.

Scoping Process

The scoping process thus far has included the following efforts. A scoping letter describing the project has been sent to approximately 200 interested parties. This scoping information has also been posted to the Black Hills Web site. The project has been presented to the local National Forest Advisory Board, Tribal representatives and local congressional representatives in separate meetings. A field review has occurred in which approximately 10 individuals attended. A public open house has occurred which was attended by approximately 25-30 individuals. Several News Releases have been provided to announce the open house, field trip and consideration of the project by the National Forest Advisory Board. Local media including newspaper, radio and television, have included reports on this project. The Forest Service has listed the project in the Schedule of Proposed Actions that is posted on the Black Hills National Forest Web site. Comments submitted in response to this NOI will be most useful if received within 30 days from the date of this notice. Response to the draft EIS will be sought from the interested public beginning in May, 2005.

Preliminary Issues

From scoping efforts to date the following preliminary issues have been identified:

• Post-treatment Snag Density:

◦ Potentially high fuel loadings caused by beetle killed trees which will not be merchantable and therefore, not be removed in the proposed treatment.

◦ Viability of snag dependent species.

• Incorporation of hardwood restoration to increase area of more fire resistant vegetation.

• Increase acres of variable density thinning to result in a more diverse landscape.

• Proposed treatments will not meet the purpose and need to reduce beetle mortality or reduce the risk of large scale, high intensity fires.

Comment Requested

This notice of intent is part of the scoping process which will guide the development of the EIS. Comments submitted by individuals, groups or other agencies in response to previous scoping efforts for this project have been incorporated into the analysis and there is no need to resubmit comments in response to this NOI. The draft environmental impact statement is expected May 2005 and the final environmental impact statement is expected July 2005.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 802 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 22, 2005.
Brad Exton,
Acting Forest Supervisor.

[FR Doc. 05-3894 Filed 2-28-05; 8:45 am]

BILLING CODE 3410-11-M